Title 3—

The President

Memorandum of July 21, 2005

Assignment of Reporting Functions

Memorandum for the Secretary of the Interior

By virtue of the authority vested in me by the Constitution and the laws of the United States, including section 301 of title 3, United States Code, I hereby assign to you the functions of the President under section 104(h) of the Compact of Free Association Amendments Act of 2003 (Public Law 108-188).

You are authorized and directed to publish this memorandum in the Federal Register.

B

THE WHITE HOUSE,

Washington, July 21, 2005.

[FR Doc. 05-14888

Filed 7-25-05; 8:45 am]

Billing code 4310-10-P